NATIONAL SCIENCE FOUNDATION

Advisory Committee for Polar Programs; Notice of Meeting

In accordance with Federal Advisory Committee Act (Pub. L. 92-463, as amended), the National Science Foundation announces the following meeting:

Name: Advisory Committee for Polar Programs (1130).

Date/Time: May 18, 2011, 8:30 a.m. to 5:30 p.m. May 19, 2011, 8:30 a.m. to 2 p.m.

Place: National Science Foundation, Room 1235, 4201 Wilson Boulevard, Arlington, VA.

Type of Meeting: Open.

Contact Person: Dr. Kelly Falkner, Office of Polar Programs (OPP). National Science Foundation, 4201 Wilson Boulevard, Arlington, VA 22230. (703) 292-8030.

Minutes: May be obtained from the contact person listed above.

Purpose of Meeting: To advise NSF on the impact of its policies, programs, and activities on the polar research community, to provide advice to the Director of OPP on issues related to long-range planning.

Agenda: Staff presentations and discussion on opportunities and challenges for polar research, education and infrastructure; discussion of OPP Strategic Vision development; transformative research, ad hoc proposals & program solicitations.

Dated: April 5, 2011.
Susanne Bolton,
Committee Management Officer.

[FR Doc. 2011-8380 Filed 4-7-11; 8:45 am]

BILLING CODE 7555-01-P